DEPARTMENT OF THE INTERIOR

Bureau of Ocean Energy Management

[Docket No. BOEM-2023-0046]

Notice of Availability of a Gulf of Mexico Regional Outer Continental Shelf Oil and Gas Draft Programmatic Environmental Impact Statement

AGENCY: Bureau of Ocean Energy Management, Interior.

ACTION: Notice of availability; request for comments.

SUMMARY: Consistent with the regulations implementing the National Environmental Policy Act (NEPA), Bureau of Ocean Energy Management (BOEM) announces the availability of the Gulf of Mexico (GOM) Regional Outer Continental Shelf (OCS) Oil and Gas Lease Sales: Draft Programmatic Environmental Impact Statement (Draft GOM Oil and Gas EIS). The Draft GOM Oil and Gas EIS analyzes the potential impacts of a representative oil and gas lease sale in available OCS areas of the Western, Central, and Eastern Planning Areas and the associated potential site- and activity-specific approvals resulting from an OCS oil and gas lease sale. This notice of availability (NOA) announces the release of the Draft GOM Oil and Gas EIS, start of the public review and comment period, and dates and times for public meetings. After the public comment period, BOEM will address the comments received and publish the Final GOM Oil and Gas EIS.

DATES: BOEM will consider comments received by January 27, 2025. BOEM will hold three virtual public meetings for the Draft GOM Oil and Gas EIS.

Dates, times, registration and additional information for the public meetings may be found at https://www.boem.gov/environment/environmental-assessment/gulf-mexico-regional-ocs-oil-and-gas-programmatic or by calling 1-800-200-4853.

ADDRESSES: Detailed information can be found on BOEM's website at https://www.boem.gov/environment/environmental-assessment/gulf-mexico-regional-ocs-oil-and-gas-programmatic.

Written comments can be submitted through the regulations.gov web portal: Navigate to www.regulations.gov and search for Docket No. BOEM-2023-0046. Select the document in the search results on which you want to comment, click on the “Comment” button, and follow the online instructions for submitting your comment. A commenter's checklist is available on the comment web page. Enter your information and comment, then click “Submit.”

FOR FURTHER INFORMATION CONTACT: Helen Rucker, BOEM, Gulf of Mexico Regional Office, Office of Environment, 1201 Elmwood Park Blvd., New Orleans, Louisiana 70123, (504) 736-2421, or helen.rucker@boem.gov.

SUPPLEMENTARY INFORMATION:

Proposed Action and Alternatives

This EIS is expected to be used to inform the decision for the first GOM oil and gas lease sale proposed in the 2024-2029 National OCS Oil and Gas Leasing Program. It also is expected to be used and supplemented as appropriate for decisions on additional future proposed GOM lease sales. In addition, this EIS will be used to support post-lease site- and activity-specific OCS oil- and gas-related activity analyses and approvals.

In this Draft EIS, BOEM analyzes four alternatives: a no action alternative and three action alternatives. Because this EIS analyzes a representative lease sale, Alternative A (No Action) is the cancellation of a single proposed GOM lease sale.

The first action alternative (Alternative B) is BOEM's Proposed Action and offers all available unleased acreage in the U.S. Gulf of Mexico OCS, including the Western and Central Planning Areas and the portion of the Eastern Planning Area not subject to Presidential withdrawal. Alternative B would allow BOEM to issue offshore wind energy leases in the 12 months following the sale by satisfying the requirement in the Inflation Reduction Act to offer an aggregate of at least 60 million acres for offshore oil and gas leasing within a 12-month period prior to issuing offshore wind energy leases. Alternative B analyzes lease stipulations and other mitigation measures for environmental protection.

The second action alternative (Alternative C) would allow for a proposed lease sale excluding targeted portions of the Central, Western, and Eastern Planning Areas within the U.S. Gulf of Mexico OCS. Alternative C would allow BOEM to issue offshore wind energy leases in the 12 months following the sale by satisfying the requirement in the Inflation Reduction Act to offer an aggregate of at least 60 million acres for offshore oil and gas leasing within a 12-month period prior to issuing offshore wind energy leases. Alternative C would exclude several areas for environmental protection purposes and to avoid conflicts with other ocean uses.

The final action alternative (Alternative D) would allow for a proposed OCS oil and gas lease sale excluding more targeted portions than Alternative C in the Central and Western Planning Areas within the U.S. Gulf of Mexico OCS. Alternative D would exclude more of the OCS for environmental considerations and to avoid conflicts with other ocean uses. However, this Alternative would not on its own satisfy the aggregate lease acreage requirements of the Inflation Reduction Act to issue offshore wind energy leases. Selection of this alternative would require at least one additional OCS oil and gas lease sale within a 12-month period in order to satisfy the requirements of the Inflation Reduction Act.

Purpose of and Need for the Proposed Action

The purpose of the Proposed Action (Alternative B) is to facilitate the potential development of those areas of the OCS that may contain economically recoverable oil and gas. Following lease issuance, BOEM may authorize development through plan and permit approvals (subject to additional environmental review and regulatory oversight). This purpose is consistent with BOEM's mandate to further the orderly development of OCS oil and gas resources under the OCS Lands Act. Each individual proposed oil and gas lease sale would provide qualified bidders the opportunity to bid upon and lease available acreage in the Gulf of Mexico OCS in order to explore, develop, and produce oil and natural gas.

The Proposed Action is needed to meet the ongoing domestic demand for oil and gas resources and, per current law, to help facilitate the development of offshore wind as a source of renewable electricity. Oil and gas from the Gulf of Mexico OCS contributes to meeting domestic demand. Oil serves as the feedstock for liquid hydrocarbon products, including gasoline, aviation and diesel fuel, and various petrochemicals. Gas may be used to support OCS oil and gas production on site as well as to potentially heat homes, generate electricity, and as feedstock necessary for the production of numerous other goods.

Under the Inflation Reduction Act of 2022 (Pub. L. 117-169, enacted August 16, 2022), Congress directed that the Secretary of the Interior must hold an offshore oil and gas lease sale(s) totaling at least 60 million acres in the year prior to issuing any offshore wind energy leases. The long-term goal of the Biden Administration is to reduce greenhouse gas (GHG) emissions to 50 percent of 2005 emissions by 2030, reach net-zero GHG emissions by 2050, and to limit global warming to less than 1.5 °Celsius (https://www.whitehouse.gov/briefing-room/statements-releases/2021/04/22/fact-sheet-president-biden-sets-2030-greenhouse-gas-pollution-reduction-target-aimed-at-creating-good-paying-union-jobs-and-securing-u-s-leadership-on-clean-energy-technologies/). Offshore wind energy is a key component of the Administration's plans to reduce future GHG emissions. Therefore, continued OCS oil and gas lease sale sales are required to pursue the climate-related goals of the Biden Administration.

Summary of Potential Impacts

BOEM analyzed potential impacts from routine OCS oil- and gas-related activities through impact-producing factors (IPFs) such as air emissions, discharges and wastes, bottom disturbance, noise, coastal land use/modification, lighting and visual impacts, offshore habitat modification/space use, and socioeconomic changes. Additional IPFs analyzed in this Draft EIS may occur from accidental events such as unintentional releases into the environment, response activities, or strikes and collisions. BOEM also included an analysis of cumulative impacts from past, present, and reasonably foreseeable future OCS oil- and gas-related activities and non-OCS oil- and gas-related activities as part of the Draft EIS. Resources analyzed included air quality; water quality; coastal communities and habitats; benthic communities and habitats (including protected corals); pelagic communities and habitats; fishes and invertebrates; birds; marine mammals; sea turtles; commercial fisheries; recreational fishing; recreational resources; land use and coastal infrastructure; social factors (including environmental justice); economic factors; and cultural, historical, and archaeological resources. This EIS determined potential impacts to resources ranging from negligible to moderate adverse (with most being negligible or minor) and some beneficial. Two issues of programmatic concern were identified and analyzed separately in this Draft EIS: GHG emissions and their social costs and space-use conflicts between BOEM Program Areas. These issues of programmatic concern are included in the environmental consequences analysis through the air emissions and offshore habitat modification/space use impact-producing factors.

Post-Lease Plan/Permit Approvals and Tiering

If the Department of the Interior ultimately decides to move forward with an individual OCS oil and gas lease sale, neither this EIS nor a resulting individual lease sale record of decision (ROD) will authorize any immediate activities (beyond ancillary activities under a lease) or approve any individual applications for plans or permits. The GOM Oil and Gas EIS will provide a programmatic environmental analysis and framework to support future decision-making on individual plan and permit submittals.

When plans or permit applications are submitted to BOEM or the Bureau of Safety and Environmental Enforcement (BSEE), the site-specific characteristics of the project will be evaluated by preparing additional environmental analyses that may tier from this EIS or incorporate it by reference. Based on the site-specific applications and evaluations, BOEM or BSEE may then reach a site-specific determination and approve, approve with modifications, or disapprove individual plans or permits. This EIS may inform future BOEM decision-making on plan submittals but does not approve or authorize any applications or plans. Therefore, neither this EIS nor a resulting oil and gas lease sale ROD constitutes a final agency action authorizing or approving any individual plan(s) or permit(s).

Anticipated Authorizations and Consultations

In conjunction with this EIS, BOEM is undertaking various consultations and coordination in accordance with applicable Federal laws, such as the Endangered Species Act, Magnuson‐Stevens Fishery Conservation and Management Act, National Historic Preservation Act (NHPA), and Coastal Zone Management Act, as appropriate. BOEM also conducted government-to-government Tribal consultations.

Decision-Making Schedule

After the public comment period ends, BOEM will review and respond to comments received and will develop the Final EIS. BOEM will make the Final EIS available to the public at least 30 days prior to issuance of any ROD. The ROD will document the final decision on which alternative (or alternative with modifications) has been selected. If the decision is to hold an OCS oil and gas lease sale, the ROD will identify the area and terms to be offered in the lease sale, including any required mitigation (e.g., through lease stipulations).

NEPA Cooperating Agencies

One Tribal government and three Federal agencies responded to BOEM's request for cooperating agencies. The National Park Service, National Marine Fisheries Service, and BSEE are cooperating agencies on the GOM Oil and Gas EIS.

Information on Comment Submissions

Federal agencies, Tribal, State, and local governments, and other interested parties are requested to comment on the Draft EIS. For information on how to submit comments, see the “Addresses” section above.

BOEM does not consider anonymous comments. Please include your name and address as part of your comment. Comments submitted in response to this notice are a matter of public record. You should be aware that your entire comment—including your address, phone number, email address, and other personally identifiable information included in your comment—may be made publicly available.

You may request that BOEM withhold your personally identifiable information from public disclosure. For BOEM to consider withholding from disclosure your personally identifying information, you must identify, in a cover letter, any information contained in the submittal of your comments that, if released, would constitute a clearly unwarranted invasion of your personal privacy. You must also briefly describe any possible harmful consequences from disclosing your information, such as embarrassment, injury, or other harm.

Even if BOEM withholds your information in the context of this NOA, your submission is subject to the Freedom of Information Act (FOIA). If your submission is requested under FOIA, BOEM can only withhold your information if it determines that one of the FOIA's exemptions to disclosure applies. Such a determination will be made in accordance with the Department of the Interior's FOIA regulations and applicable law.

Additionally, under Section 304 of the NHPA, BOEM is required, after consultation with the Secretary of the Interior, to withhold the location, character, or ownership of historic property if it determines that disclosure may, among other things, cause a significant invasion of privacy, risk harm to the historic property, or impede the use of a traditional religious site by practitioners. Tribal entities and other parties providing information on historic resources should designate information that they wish to be held as confidential and provide the reasons why BOEM should do so. Please label privileged or confidential information as “Contains Confidential Information,” and consider submitting such information as a separate attachment. BOEM may consider information that is not labeled as privileged or confidential as suitable for public release.

All submissions from organizations or businesses and from individuals identifying themselves as representatives or officials of organizations or businesses will be made available for public inspection in their entirety.

Request for Comment

BOEM requests data, traditional and Indigenous knowledge, comments, views, information, analysis, or suggestions relevant to the analysis of the Proposed Action from the public; affected Federal, Tribal, State, and local governments, agencies, and offices; the scientific community; industry; or any other interested party. Specifically, BOEM requests information on the following topics:

1. Potential mitigating measures and the effects these could have on—

a. biological resources, including birds, coastal communities, benthic communities, pelagic communities, fish, invertebrates, essential fish habitat, marine mammals, and sea turtles;

b. physical resources and conditions, including air quality, water quality, coastal habitats, benthic habitats, and pelagic habitats; and

c. socioeconomic and cultural resources, including commercial fishing, recreational fishing, demographics, employment, economics, environmental justice, land use and coastal infrastructure, navigation and vessel traffic, other uses (such as marine minerals, military use, and aviation), and recreation and tourism.

2. The identification of historic properties within the GOM, the potential effects on those historic properties from GOM oil and gas development, and any information that supports identification of historic properties under the NHPA. BOEM also solicits proposed measures to avoid, minimize, or mitigate any adverse effects on historic properties. If any historic properties are identified, a potential effects analysis will be available for public and NHPA consulting party comment in the Final EIS.

3. Information on other current or planned activities in the GOM, including any mitigating measures, their possible impacts on the alternatives, and the alternatives' possible impacts on those activities.

4. Other information relevant to impacts on the human environment from potential GOM oil and gas development alternatives, including any mitigating measures.

To promote informed decision-making, comments should be as specific as possible and should provide as much detail as necessary to meaningfully and fully inform BOEM of the commenter's position. Comments should explain why the issues raised are important for consideration of the Proposed Action, as well as economic, employment, and other impacts affecting the quality of the human environment.

Authority: 42 U.S.C. 4321 et seq. and 40 CFR 1503.1.

James J. Kendall,
Regional Director, New Orleans, Louisiana Office, Bureau of Ocean Energy Management.

[FR Doc. 2024-29360 Filed 12-12-24; 8:45 am]

BILLING CODE 4350-98-P